NUCLEAR REGULATORY COMMISSION

[NRC-2008-0302]

Standard Format and Content of License Applications for Conventional Uranium Mills

AGENCY: Nuclear Regulatory Commission.

ACTION: Draft regulatory guide; withdrawal.

SUMMARY: On May 30, 2008 (73 FR 31152), the U.S. Nuclear Regulatory Commission (NRC) published for public comment a notice of issuance and availability of Draft Regulatory Guide (DG)-3024, “Standard Format and Content of License Applications for Conventional Uranium Mills.” DG-3024 was a proposed Revision 2 of Regulatory Guide (RG) 3.5. However, upon further consideration the NRC has decided not to revise RG 3.5 at this time. For this reason, DG-3024 will be withdrawn. The comment period closed on August 4, 2008, and 6 comments were received. The comments received will be considered and incorporated as appropriate if the NRC decides to revise RG 3.5 in the future.

ADDRESSES: You can access publicly available documents related to this action using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-800-397-4209, 301-415-4737, or by e-mail to pdr.resource@nrc.gov.

• Federal Rulemaking Web Site: Public comments and supporting materials related to this action can be found at http://www.regulations.gov by searching on Docket ID NRC-2008-0302. Address questions about NRC dockets to Carol Gallagher, telephone: 301-492-3668; e-mail: Carol.Gallagher@nrc.gov.

FOR FURTHER INFORMATION CONTACT: Hector Luis Rodriguez-Luccioni, U.S. Nuclear Regulatory Commission, Washington, DC 20555-0001; telephone: 301-251-7685, e-mail: Hector.Rodriguez-Luccioni@nrc.gov.

Dated at Rockville, Maryland this 15th day of September, 2011.
For the Nuclear Regulatory Commission.
Thomas H. Boyce,
Chief, Regulatory Guide Development Branch, Division of Engineering, Office of Nuclear Regulatory Research.

[FR Doc. 2011-24475 Filed 9-22-11; 8:45 am]

BILLING CODE 7590-01-P